INTERNATIONAL TRADE COMMISSION

[Investigation No. 337-TA-650]

Certain Coaxial Cable Connectors and Components Thereof and Products Containing Same; Notice of Issuance of a General Exclusion Order for U.S. Patent No. 5,470,257

AGENCY: U.S. International Trade Commission.

ACTION: Notice.

SUMMARY: Notice is hereby given that the U.S. International Trade Commission has determined to issue a general exclusion order for U.S. Patent No. 5,470,257 (“the `257 patent”) following a remand from the United States Court of Appeals for the Federal Circuit (“Federal Circuit”) in John Mezzalingua Associates v. Int'l Trade Comm'n, 2011 U.S. App. LEXIS 8806 (Fed. Cir. Apr. 28, 2011).

FOR FURTHER INFORMATION CONTACT: Michelle Klancnik, Office of the General Counsel, U.S. International Trade Commission, 500 E Street, SW., Washington, DC 20436, telephone (202) 708-5468. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on May 30, 2008, based on a complaint filed by John Mezzalingua Associates, Inc. d/b/a PPC, Inc. of East Syracuse, New York (“PPC”). 73 FR 31145 (May 30, 2008). The complaint alleged violations of section 337 of the Tariff Act of 1930 (19 U.S.C. 1337) in the importation into the United States, the sale for importation, and the sale within the United States after importation of certain coaxial cable connectors and components thereof and products containing the same by reason of infringement of various United States Patents, including the `257 patent. The complaint named eight respondents. After institution, two respondents were terminated based on consent orders and four respondents were found to be in default (“defaulting respondents”). Two respondents, Fu-Ching Technical Industry, Co., Ltd. and Gem Electronics, Inc. (“the active respondents”), remained active.

On October 13, 2009, the presiding administrative law judge issued a final initial determination (“ID”) and a recommended determination on remedy and bonding. The Commission determined to review the final ID in part.

On March 31, 2010, the Commission found no violation of section 337 for the `257 patent. The Commission found infringement of the `257 patent by the defaulting respondents and no infringement by the active respondents. The Commission nevertheless found no violation of section 337 because it found no domestic industry for the `257 patent. Having found no violation, the Commission did not make a remedy determination for the `257 patent.

Complainant PPC appealed to the Federal Circuit. In John Mezzalingua Associates v. International Trade Commission, 2011 U.S. App. LEXIS 8806 (Fed. Cir. Apr. 28, 2011), the Federal Circuit reversed the Commission's finding of no violation, entered a judgment of violation, and remanded the investigation to the Commission for proceedings consistent with its opinion. The Federal Circuit's mandate issued on June 30, 2011.

On July 18, 2011, the Commission issued a notice requesting comments from the parties regarding how to proceed with the investigation following the remand from the Federal Circuit. On July 29, 2011, PPC filed a response to the Commission's notice. On August 1, 2011, the Commission investigative attorney filed a response to the Commission's notice.

Having reviewed the record to the investigation including all relevant submissions, the Commission has determined that the appropriate form of remedy is a general exclusion order. The general exclusion order prohibits the unlicensed entry of coaxial cable connectors and components thereof and products containing the same that infringe claim 1 and/or 5 of the `257 patent.

The Commission further determined that the public interest factors enumerated in section 337(d) (19 U.S.C. 1337(d)) do not preclude issuance of the general exclusion order. Finally, the Commission determined that the amount of bond during the Presidential review period (19 U.S.C. 1337(j)) shall be in the amount of thirteen (13) cents per coaxial connector of the defaulting respondents—Hanjiang Fei Yu Electronics Equipment Factory of China, Zhongguang Electronics of China, Yangzhou Zhongguang Electronics Co. of China, and Yangzhou Zhongguang Foreign Trade Co. Ltd. of China. A bond in the amount of zero is required for any other coaxial cable connector or component thereof or product containing the same covered by the general exclusion order. The Commission's order was delivered to the President and the United States Trade Representative on the day of its issuance.

The authority for the Commission's determination is contained in section 337 of the Tariff Act of 1930, as amended (19 U.S.C. 1337), and in Part 210 of the Commission's Rules of Practice and Procedure (19 CFR part 210).

Issued: September 13, 2011.
By order of the Commission.
James R. Holbein,
Secretary to the Commission.

[FR Doc. 2011-23894 Filed 9-16-11; 8:45 am]

BILLING CODE 7020-02-P